DEPARTMENT OF HOMELAND SECURITY

Coast Guard

33 CFR Part 165

[Docket No. USCG-2013-0060]

RIN 1625-AA00

Safety Zones; Recurring Events in Captain of the Port Boston Zone

AGENCY: Coast Guard, DHS.

ACTION: Notice of proposed rulemaking.

SUMMARY: The Coast Guard proposes to add three new permanent safety zones to the Coast Guard Captain of the Port Boston Zone annual recurring marine events. When activated and subject to enforcement, these permanent safety zones would restrict vessels from portions of water areas during annual recurring events. These three permanent safety zones would expedite public notification of these annual recurring events, and ensure the protection of the maritime public and event participants from the hazards associated with these annual recurring events.

DATES: Comments and related material must be received by the Coast Guard on or before July 15, 2013. Requests for public meetings must be received by the Coast Guard on or before July 5, 2013.

ADDRESSES: You may submit comments identified by docket number USCG-2013-0060 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this rule, call or email Mr. Mark Cutter, Coast Guard Sector Boston Waterways Management Division, telephone 617-223-4000, email Mark.E.Cutter@uscg.mil. If you have questions on viewing or submitting material to the docket, call Barbara Hairston, Program Manager, Docket Operations, telephone 202-366-9826.

SUPPLEMENTARY INFORMATION:

Table of Acronyms

DHS Department of Homeland Security

FR Federal Register

NPRM Notice of Proposed Rulemaking

COTP Captain of the Port

A. Public Participation and Request for Comments

We encourage you to participate in this rulemaking by submitting comments and related materials. All comments received will be posted without change to http://www.regulations.gov and will include any personal information you have provided.

1. Submitting Comments

If you submit a comment, please include the docket number for this rulemaking (USCG-2013-0060), indicate the specific section of this document to which each comment applies, and provide a reason for each suggestion or recommendation. You may submit your comments and material online (via http://www.regulations.gov) or by fax, mail, or hand delivery, but please use only one of these means. If you submit a comment online via www.regulations.gov, it will be considered received by the Coast Guard when you successfully transmit the comment. If you fax, hand deliver, or mail your comment, it will be considered as having been received by the Coast Guard when it is received at the Docket Management Facility. We recommend that you include your name and a mailing address, an email address, or a telephone number in the body of your document so that we can contact you if we have questions regarding your submission.

To submit your comment online, go to http://www.regulations.gov, click on the “submit a comment” box, which will then become highlighted in blue. In the “Document Type” drop down menu select “Proposed Rule” and insert “USCG-2013-0060” in the “Keyword” box. Click “Search” then click on the balloon shape in the “Actions” column. If you submit your comments by mail or hand delivery, submit them in an unbound format, no larger than 8½ by 11 inches, suitable for copying and electronic filing. If you submit comments by mail and would like to know that they reached the Facility, please enclose a stamped, self-addressed postcard or envelope. We will consider all comments and material received during the comment period and may change the rule based on your comments.

2. Viewing Comments and Documents

To view comments, as well as documents mentioned in this preamble as being available in the docket, go to http://www.regulations.gov, click on the “read comments” box, which will then become highlighted in blue. In the “Keyword” box insert “USCG-2013-0060” and click “Search.” Click the “Open Docket Folder” in the “Actions” column. You may also visit the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

3. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

4. Public Meeting

We do not now plan to hold a public meeting. But you may submit a request for one using one of the four methods specified under ADDRESSES. Please explain why you believe a public meeting would be beneficial. If we determine that one would aid this rulemaking, we will hold one at a time and place announced by a later notice in the Federal Register.

B. Basis and Purpose

The legal basis for the proposed rule is 33 U.S.C. 1231, 1233; 46 U.S.C. Chapter 701, 3306, 3703; 50 U.S.C. 191, 195; 33 CFR 1.05-1, and 160.5; Pub. L. 107-295, 116 Stat. 2064; and Department of Homeland Security Delegation No. 0170.1, which collectively authorize the Coast Guard to define regulatory safety zones.

This rulemaking would update the table of existing permanent safety zones in order to meet the Coast Guard's intended purpose of ensuring safety during these annual recurring events.

C. Discussion of Proposed Rule

The Coast Guard proposes to add three new permanent safety zones to 33 CFR 165.118 (Safety Zones). The proposed rule would update the list of annual recurring events in the existing regulation found in 33 CFR 165.118 for the Coast Guard Captain of the Port (COTP) Boston Zone with the addition of the following three new permanent safety zones; (6.5) Hull Youth Football Carnival Fireworks, (8.8) The Boston Triathlon, and (9.7) Boston Harbor Sharkfest Swim. As in the original rule, the amended TABLE provides the event name, sponsor, and type, as well as approximate times, dates, and locations of the events. All regulatory details, including public notification procedures, remain the same as published in the original rule.

D. Regulatory Analyses

We developed this proposed rule after considering numerous statutes and executive orders related to rulemaking. Below we summarize our analyses based on 13 of these statutes or executive orders.

1. Executive Order 12866 and Executive Order 13563

This proposed rule is not a significant regulatory action under section 3(f) of Executive Order 12866, Regulatory Planning and Review, as supplemented by Executive Order 13563, and does not require an assessment of potential costs and benefits under section 6(a)(3) of that Order. The Office of Management and Budget has not reviewed it under that Order.

We expect the economic impact of this proposed rule to be minimal. Although this regulation may have some impact on the public, the potential impact will be minimized for the following reasons: the Coast Guard is only modifying an existing regulation to account for new information.

2. Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities. This proposed rule would affect the following entities, some of which might be small entities: owners or operators of vessels intending to transit, fish, or anchor in the areas where the listed annual recurring events are being held.

The proposed rule would not have a significant economic impact on a substantial number of small entities for the same reasons outlined in the original rule. In addition, this action is only modifying an existing rule which, in and of itself, did not have a significant impact on a substantial number of small entities.

If you think that your business, organization, or governmental jurisdiction qualifies as a small entity and that this rule would have a significant economic impact on it, please submit a comment (see ADDRESSES) explaining why you think it qualifies and how and to what degree this rule would economically affect it.

3. Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact the person listed under FOR FURTHER INFORMATION CONTACT. The Coast Guard will not retaliate against small entities that question or complain about this proposed rule or any policy or action of the Coast Guard.

4. Collection of Information

This proposed rule would call for no new collection of information under the Paperwork Reduction Act of 1995 (44 U.S.C. 3501-3520.).

5. Federalism

A rule has implications for federalism under Executive Order 13132, Federalism, if it has a substantial direct effect on State or local governments and would either preempt State law or impose a substantial direct cost of compliance on them. We have analyzed this proposed rule under that Order and have determined that it does not have implications for federalism.

6. Protest Activities

The Coast Guard respects the First Amendment rights of protesters. Protesters are asked to contact the person listed in the FOR FURTHER INFORMATION CONTACT section to coordinate protest activities so that your message can be received without jeopardizing the safety or security of people, places or vessels.

7. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the effects of this rule elsewhere in this preamble.

8. Taking of Private Property

This proposed rule would not cause a taking of private property or otherwise have taking implications under Executive Order 12630, Governmental Actions and Interference with Constitutionally Protected Property Rights.

9. Civil Justice Reform

This proposed rule meets applicable standards in sections 3(a) and 3(b)(2) of Executive Order 12988, Civil Justice Reform, to minimize litigation, eliminate ambiguity, and reduce burden.

10. Protection of Children

We have analyzed this proposed rule under Executive Order 13045, Protection of Children from Environmental Health Risks and Safety Risks. This rule is not an economically significant rule and would not create an environmental risk to health or risk to safety that might disproportionately affect children.

11. Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

12. Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

13. Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

14. Environment

We have analyzed this proposed rule under Department of Homeland Security Management Directive 023-01 and Commandant Instruction M16475.lD, which guide the Coast Guard in complying with the National Environmental Policy Act of 1969 (NEPA)(42 U.S.C. 4321-4370f), and have made a preliminary determination that this action may be one of a category of actions that do not individually or cumulatively have a significant effect on the human environment.

A preliminary environmental analysis checklist supporting this determination will be available in the docket where indicated under ADDRESSES. This proposed rule involves water activities including swimming events and fireworks displays. This rule may be categorically excluded, under figure 2-1, paragraph (34)(g) of the Instruction.

We seek any comments or information that may lead to the discovery of a significant environmental impact from this proposed rule.

List of Subjects in 33 CFR Part 165

Harbors, Marine Safety, Navigation (water), Reporting and recordkeeping requirements, Security measures, and Waterways.

For the reasons discussed in the preamble, the Coast Guard proposes to amend 33 CFR part 165 as follows:

PART 165—REGULATED NAVIGATION AREAS AND LIMITED ACCESS AREAS

1. The authority citation for Part 165 continues to read as follows:

Authority: 33 U.S.C. 1231; 46 U.S.C. Chapter 701, 3306, 3703; 33 CFR 1.05-1, and 160.5; Pub. L. 107-295, 116 Stat. 2064; Department of Homeland Security Delegation No. 0170.1.

2. Revise TABLE 1 to § 165.118 to read as follows:

§ 165.118 Safety Zones; recurring annual events held in Coast Guard Sector Boston Captain of the Port Zone.

* * * * *

Table 1
6.0 | JUNE
6.1 Sand and Sea Festival Fireworks | • Event Type: Fireworks Display. • Sponsor: Salisbury Beach Partnership, Inc.
| • Date: A one-night event on Saturday during the last weekend of June, as specified in the USCG District 1 Local Notice to Mariners.
| • Time: 10:00 pm to 10:30 pm.
| • Location: All waters of the Atlantic Ocean near Salisbury Beach within a 350-yard radius of the fireworks launch site located at position 42°50.6′ N, 70°48.4′ W (NAD 83).
6.2 St. Peter's Fiesta Fireworks | • Event Type: Fireworks Display. • Sponsor: St. Peters Fiesta.
| • Date: A one-night event on Saturday during the last weekend of June, as specified in the USCG District 1 Local Notice to Mariners.
| • Time: 8:00 pm to 10:00 pm.
| • Location: All waters of Gloucester Harbor, Stage Fort Park, within a 350-yard radius of the fireworks launch site on the beach located at position 42°36.3′ N, 070°40.5′ W (NAD 83).
6.3 Surfside Fireworks | • Event Type: Fireworks Display.
| • Sponsor: Salisbury Beach Partnership and Chamber of Commerce.
| • Date: Every Saturday from June through September, as specified in the USCG District 1 Local Notice to Mariners.
| • Time: 9:30 pm to 10:30 pm.
| • Location: All waters of the Atlantic Ocean near Salisbury Beach, MA, within a 350-yard radius of the fireworks barge located at position 42°50.6′ N, 070°48.4′ W (NAD 83).
6.4 Cohasset Triathlon | • Event Type: Swim.
| • Sponsor: Bill Burnett.
| • Date: A one-day event on Sunday during the last weekend of June, as specified in the USCG District 1 Local Notice to Mariners.
| • Time: 08:30 am to 10:00 am.
| • Location: All waters in the vicinity of Cohasset Harbor around Sandy Beach, within the following points (NAD 83):
| 42°15.6′ N, 070°48.1′ W.
| 42°15.5′ N, 070°48.1′ W.
| 42°15.4′ N, 070°47.9′ W.
| 42°15.4′ N, 070°47.8′ W.
6.5 Hull Youth Football Carnival Fireworks | • Event Type: Fireworks Display.
| • Sponsor: Hull Youth Football.
| • Date: A one-night event on the third or fourth weekend of June, as specified in the USCG District 1 Local Notice to Mariners Time: 9:00 pm to 11:00 pm.
| • Location: All waters within 450 foot radius of the fireworks barge located approximately 500 feet of off Nantasket Beach, Hull MA located at position 42°16.6′ N, 070°51.7′ W (NAD 83).
7.0 | JULY
7.1 City of Lynn 4th of July Celebration Fireworks | • Event Type: Firework Display. • Sponsor: City of Lynn. • Date: July 3rd, as specified in the USCG District 1 Local Notice to Mariners.
| • Time: 6:00 pm to 11:00 pm.
| • Location: All waters of Nahant Bay, within a 350-yard radius of the fireworks barge located at position 42°27.62′ N, 070°55.58′ W (NAD 83).
7.2 Gloucester July 4th Celebration Fireworks | • Event Type: Fireworks Display. • Sponsor: The Gloucester Fund. • Date: July 3rd, as specified in the USCG District 1 Local Notice to Mariners.
| • Time: 10:30 pm to 11:00 pm.
| • Location: All waters of Gloucester Harbor, Stage Fort Park, within a 350-yard radius of the fireworks launch site on the beach located at position 42°36.3′ N, 070°40.5′ W (NAD 83).
7.3 Manchester by the Sea Fireworks | • Event Type: Fireworks Display. • Sponsor: Manchester Parks and Recreation Department.
| • Date: July 4th, as specified in the USCG District 1 Local Notice to Mariners.
| • Time: 8:30 pm to 10:00 pm.
| • Location: All waters of Manchester Bay within a 350-yard radius of the fireworks launch site barge located at position 42°35.03′ N, 070°45.52′ W (NAD 83).
7.4 Weymouth 4th of July Celebration Fireworks | • Event Type: Fireworks Display. • Sponsor: Town of Weymouth 4th of July Committee.
| • Date: Friday or Saturday during the first weekend before July 4th, as specified in the USCG District 1 Local Notice to Mariners.
| • Time: 8:00 pm to 10:30 pm.
| • Location: All waters of Weymouth Fore River, within a 350-yard radius of the fireworks launch site located at position 42°15.5′ N, 070°56.1′ W (NAD 83).
7.5 Beverly 4th of July Celebration Fireworks | • Event Type: Fireworks Display.
| • Sponsor: Beverly Harbormaster.
| • Date: July 4th, as specified in the USCG District 1 Local Notice to Mariners.
| • Time: 9:00 pm to 11:00 pm.
| • Location: All waters of Beverly Harbor within a 350-yard radius of the fireworks launch barge located at position 42°32.62′ N, 070°52.15′ W (NAD 83)
7.6 Beverly Farms 4th of July Celebration Fireworks | • Event Type: Fireworks Display. • Sponsor: Farms-Pride 4th of July Committee.
| • Date: July 4th, as specified in the USCG District 1 Local Notice to Mariners.
| • Time: 9:00 pm to 9:30 pm.
| • Location: All waters of Manchester Bay within a 350-yard radius of the fireworks launch site near West Beach located at position 42°33.84′ N, 070°48.5′ W (NAD 83).
7.7 Boston Pops Fireworks | • Event Type: Fireworks Display. • Sponsor: Boston 4 Celebrations.
| • Date: July 4th, as specified in the USCG District 1 Local Notice to Mariners.
| • Time: 8:30 pm to 11:00 pm.
| • Location: All waters of the Charles River within a 350-yard radius of the fireworks barges located in the vicinity of position 42°21.47′ N, 071°05.03′ W (NAD 83).
7.8 City of Salem Fireworks | • Event Type: Fireworks Display. • Sponsor: City of Salem.
| • Date: July 4th, as specified in the USCG District 1 Local Notice to Mariners.
| • Time: 9:00 pm to 10:00 pm.
| • Location: All waters of Salem Harbor, within a 350-yard radius of the fireworks launch site located on Derby Wharf at position 42°31.15′ N, 070°53.13′ W (NAD 83).
7.9 Marblehead 4th of July Fireworks | • Event Type: Fireworks Display. • Sponsor: Town of Marblehead.
| • Date: July 4th, as specified in the USCG District 1 Local Notice to Mariners.
| • Time: 8:30 pm to 9:30 pm.
| • Location: All waters of Marblehead Harbor within a 350-yard radius of the fireworks launch site located at position 42°30.34′ N, 070°50.13′ W (NAD 83).
7.10 Plymouth 4th of July Fireworks | • Event Type: Fireworks Display. • Sponsor: July 4 Plymouth, Inc.
| • Date: July 4th, as specified in the USCG District 1 Local Notice to Mariners.
| • Time: 9:00 pm to 10:00 pm.
| • Location: All waters of Plymouth Harbor within a 350-yard radius of the fireworks launch site located at position 42°57.3′ N, 070°38.3′ W (NAD 83).
7.11 Town of Nahant Fireworks | • Event Type: Fireworks Display. • Sponsor: Town of Nahant.
| • Date: July 4th, as specified in the USCG District 1 Local Notice to Mariners.
| • Time: 9:00 pm to 11:00 pm.
| • Location: All waters of Nahant Harbor within a 350-yard radius of the fireworks launch site on Bailey's Hill Park located at position 42°25.1′ N, 070°55.8′ W (NAD 83).
7.12 Town of Revere Fireworks | • Event Type: Fireworks Display. • Sponsor: Town of Revere.
| • Date: July 4th, as specified in the USCG District 1 Local Notice to Mariners.
| • Time: 9:00 pm to 11:00 pm.
| • Location: All waters of Broad Sound, within a 350-yard radius of the fireworks launch site located at Revere Beach at position 42°24.5′ N, 070°59.47′ W (NAD 83).
7.13 Yankee Homecoming Fireworks | • Event Type: Fireworks Display. • Sponsor: Yankee Homecoming.
| • Date: A one-day event on Saturday during the last weekend of July or first weekend of August, as specified in the USCG District 1 Local Notice to Mariners.
| • Time: 9:00 pm to 10:00 pm.
| • Location: All waters of the Merrimack River, within a 350-yard radius of the fireworks launch site located at position 42°48.97′ N, 070°52.68′ W (NAD 83).
7.14 Hingham 4th of July Fireworks | • Event Type: Fireworks Display. • Sponsor: Hingham Lions Club.
| • Date: July 4th, as specified in the USCG District 1 Local Notice to Mariners.
| • Time: 8:00 pm to 10:00 pm.
| • Location: All waters within a 350-yard radius of the beach on Button Island located at position 42°15.07′ N, 070°53.03′ W (NAD 83).
7.15 Ipswich Independence Day Celebration Fireworks | • Event Type: Fireworks Display. • Sponsor: Trustees of the Foundation.
| • Date: July 4th, as specified in the USCG District 1 Local Notice to Mariners.
| • Time: 9:00 pm to 10:00 pm.
| • Location: All waters of Ipswich Bay within a 350-yard radius of the beach located at position 42°41.43′ N, 070°46.49′ W (NAD 83).
7.16 Salisbury Maritime Festival Fireworks | • Event Type: Fireworks Display. • Sponsor: Salisbury Beach Partnership, Inc.
| • Date: A one-day event on Saturday during the third weekend of July, as specified in the USCG District 1 Local Notice to Mariners.
| • Time: 10:00 pm to 10:30 pm.
| • Location: All waters of the Atlantic Ocean near Salisbury Beach within a 350-yard radius of the fireworks launch site located at position 42°50.6′ N, 070°48.4′ W (NAD 83).
7.17 Salisbury 4th of July Fireworks | • Event Type: Fireworks Display. • Sponsor: Salisbury Chamber of Commerce.
| • Date: July 4th, as specified in the USCG District 1 Local Notice to Mariners.
| • Time: 9:30 pm to 11:00 pm.
| • Location: All waters of the Atlantic Ocean near Salisbury Beach within a 350-yard radius of the fireworks launch site located at position 42°50.6′ N, 070°48.4′ W (NAD 83).
7.18 Charles River 1-Mile Swim | • Event Type: Swim. • Sponsor: Charles River Swimming Club, Inc.
| • Date: A one-day event held on the second Sunday in July, as specified in the USCG District 1 Local Notice to Mariners.
| • Time: 8:00 am to 9:00 am. Location: All waters of Charles River between the Longfellow Bridge and the Harvard Bridge within the following points (NAD 83):
| 42°21.7′ N, 071°04.8′ W.
| 42°21.7′ N, 071°04.3′ W.
| 42°22.2′ N, 071°07.3′ W.
| 42°22.1′ N, 070°07.4′ W.
7.19 Swim Across America Boston | • Event Type: Swim. • Sponsor: Swim Across America.
| • Date: A one-day event on Friday during the third week of July, as specified in the USCG District 1 Local Notice to Mariners.
| • Time: 7:00 am to 3:00 pm.
| • Location: All waters of Boston Harbor between Rowes Warf and Little Brewster Island within the following points (NAD 83):
| 42°21.4′ N, 071°03.0′ W.
| 42°21.5′ N, 071°02.9′ W.
| 42°19.8′ N, 070°53.6′ W.
| 42°19.6′ N, 070°53.4′ W.
7.20 Joppa Flats Open Water Mile | • Event Type: Swim. • Sponsor: Newburyport YMCA.
| • Date: A one-day event on Saturday during the last week of July, as specified in the USCG District 1 Local Notice to Mariners.
| • Time: 3:00 pm to 5:00 pm.
| • Location: All waters of the Merrimack River located in the Joppa Flats within the following points (NAD 83):
| 42°48.6′ N, 070°50.9′ W.
| 42°48.6′ N, 070°49.4′ W.
| 42°48.0′ N, 070°49.4′ W.
| 42°48.0′ N, 070°57.0′ W.
7.21 Swim Across America Nantasket Beach | • Event Type: Swim. • Sponsor: Swim Across America.
| • Date: A one-day event on Sunday during the third week of July, as specified in the USCG District 1 Local Notice to Mariners.
| • Time: 7:00 am to 9:30 am.
| • Location: All waters of Massachusetts Bay near Nantasket Beach within the following points (NAD 83):
| 42°16.7′ N, 070°51.9′ W.
| 42°16.9′ N, 070°51.3′ W.
| 42°16.3′ N, 070°50.5′ W.
| 42°16.1′ N, 070°51.0′ W.
8.0 | AUGUST
8.1 Beverly Homecoming Fireworks | • Event Type: Fireworks Display. • Sponsor: Beverly Harbormaster.
| • Date: A one-day event on Sunday during the first weekend of August, as specified in the USCG District 1 Local Notice to Mariners.
| • Time: 9:00 pm to 11:00 pm.
| • Location: All waters of Beverly Harbor within a 350-yard radius of the fireworks barge located at position 42°32.62′ N, 070°52.15′ W (NAD 83).
8.2 Celebrate Revere Fireworks | • Event Type: Fireworks Display. • Sponsor: Town of Revere.
| • Date: A one-day event on Saturday during the first weekend of August, as specified in the USCG District 1 Local Notice to Mariners.
| • Time: 9:00 pm to 11:00 pm.
| • Location: All waters within a 350-yard radius of the fireworks launch site located at Revere Beach at position 42°24.5′ N, 070°59.47′ W (NAD 83).
8.3 Gloucester Fisherman Triathlon | • Event Type: Swim. • Sponsor: Gloucester Fisherman Athletic Association.
| • Date: A one-day event on Sunday during the Second week of August, as specified in the USCG District 1 Local Notice to Mariners.
| • Time: 7:30 am to 8:30 am.
| • Location: All waters of Western Harbor, within the following points (NAD 83):
| 42°36.6′ N, 070°40.3′ W.
| 42°36.5′ N, 070°40.2′ W.
| 42°36.4′ N, 070°40.7′ W.
| 42°36.5′ N, 070°40.7′ W.
8.4 Urban Epic Triathlon | • Event Type: Swim. • Sponsor: Tri-Maine/Urban Epic Events.
| • Date: A one-day event on Sunday during the second week of August, as specified in the USCG District 1 Local Notice to Mariners.
| • Time: 7:00 am to 10:00 am.
| • Location: All waters of Dorchester Bay within the following points (NAD 83):
| 42°18.9′ N, 071°02.0′ W.
| 42°18.9′ N, 071°01.8′ W.
| 42°19.5′ N, 071°01.8′ W.
| 42°19.8′ N, 071°02.2′ W.
8.5 Celebrate the Clean Harbor Swim | • Event Type: Swim. • Sponsor: New England Marathon Swimming Association.
| • Date: A one-day event on Saturday during the third week of August, as specified in the USCG District 1 Local Notice to Mariners.
| • Time: 9:00 am to 12:00 pm.
| • Location: All waters of Gloucester Harbor within the following points (NAD 83):
| 42°35.3′ N, 070°39.8′ W.
| 42°35.9′ N, 070°39.2′ W.
| 42°35.9′ N, 070°39.8′ W.
| 42°35.3′ N, 070°40.2′ W.
8.6 Boston Light Swim | • Event Type: Swim. • Sponsor: Boston Light Swim.
| • Date: A one-day event on Sunday during the second week of August, as specified in the USCG District 1 Local Notice to Mariners.
| • Time: 8:00 am to 1:00 pm.
| • Location: All waters of Boston Harbor between the L Street Bath House and Little Brewster Island within the following points (NAD 83):
| 42°19.7′ N, 071°02.2′ W.
| 42°19.9′ N, 071°10.7′ W.
| 42°19.8′ N, 070°53.6′ W.
| 42°19.6′ N, 070°53.4′ W.
8.7 Sharkfest Swim | • Event Type: Swim. • Sponsor: Enviro-Sports Productions, Inc.
| • Date: A one-day event on Sunday during the last week of August, as specified in the USCG District 1 Local Notice to Mariners.
| • Time: 10:00 am to 12:00 pm.
| • Location: All waters of Old Harbor from near Columbia Point to Carson Beach within the following points (NAD 83):
| 42°19.1′ N, 071°02.2′ W.
| 42°19.2′ N, 071°01.9′ W.
| 42°19.7′ N, 071°02.8′ W.
| 42°19.4′ N, 071°02.9′ W.
8.8 The Boston Triathlon | • Event Type: Swim. • Sponsor: Wilkinson Enterprises, Inc.
| • Date: A one-day event on the second or third weekend of August, as specified in the USCG District 1 Local Notice to Mariners.
| • Time: 7:00 am to 10:00 am.
| • Location: All waters of Boston Inner Harbor, Piers Park East Boston to Columbus Park, Boston, Ma within the following points (NAD 83):
| 42°21.7′ N, 071°02.1′ W.
| 42°21.6′ N, 071°02.8′ W.
| 42°21.7′ N, 071°02.8′ W.
| 42°21.8′ N, 071°02.4′ W.
9.0 | SEPTEMBER
9.1 Gloucester Schooner Festival Fireworks | • Event Type: Fireworks Display. • Sponsor: Stage Fort Park Gloucester.
| • Date: A one-day event on Saturday during the first weekend of September, as specified in the USCG District 1 Local Notice to Mariners.
| • Time: 7:00 pm to 11:00 pm.
| • Location: All waters of Gloucester Harbor within a 350-yard radius of the launch site on the beach located at position 42°36.3′ N, 070°40.5′ W (NAD 83).
9.2 Plymouth Yacht Club Celebration Fireworks | • Event Type: Fireworks Display. • Sponsor: Plymouth Yacht Club.
| • Date: A one-day event on Saturday during the first weekend of September, as specified in the USCG District 1 Local Notice to Mariners.
| • Time: 9:00 pm to 11:00 pm.
| • Location: All waters of Plymouth Harbor within a 350-yard radius of the fireworks barge located at position 41°22.3′ N, 070°39.4′ W (NAD 83).
9.3 Somerville Riverfest Fireworks | • Event Type: Fireworks Display. • Sponsor: Federal Realty Investment Trust.
| • Date: A one-day event on Saturday during the last weekend of September, as specified in the USCG District 1 Local Notice to Mariners.
| • Time: 7:30 pm to 10:00 pm.
| • Location: All waters of the Mystic River within a 350-yard radius of the fireworks barge located at position 42°23.9′ N, 071°04.8′ W (NAD 83).
9.4 Mayflower Triathlon | • Event Type: Swim. • Sponsor: Fast Forward Race Management.
| • Date: A one-day event on Saturday during the first weekend of September, as specified in the USCG District 1 Local Notice to Mariners.
| • Time: 10:00 am to 11:00 am.
| • Location: All waters of Plymouth Inner Harbor within the following points (NAD 83):
| 41°58.3′ N, 070°40.6′ W.
| 41°58.7′ N, 070°39.1′ W.
| 41°56.8′ N, 070°37.8′ W.
| 41°57.1′ N, 070°39.2′ W.
9.5 Plymouth Rock Triathlon | • Event Type: Swim. • Sponsor: Fast Forward Race Management.
| • Date: A one-day event on Sunday during the first weekend of September, as specified in the USCG District 1 Local Notice to Mariners.
| • Time: 7:00 am to 9:30 am.
| • Location: All waters of Plymouth Inner Harbor within the following points (NAD 83):
| 41°58.3′ N, 070°40.6′ W.
| 41°58.7′ N, 070°39.1′ W.
| 41°56.8′ N, 070°37.8′ W.
| 41°57.1′ N, 070°39.2′ W.
9.6 Duxbury Beach Triathlon | • Event Type: Swim. • Sponsor: Duxbury Beach Triathlon.
| • Date: A one-day event on Saturday during the third weekend of September, as specified in the USCG District 1 Local Notice to Mariners.
| • Time: 08:30 am to 09:30 am.
| • Location: All waters of Duxbury Bay on the south side of the Powder Point Bridge within the following points (NAD 83):
| 42°02.8′ N, 070°39.1′ W.
| 42°03.0′ N, 070°38.7′ W.
| 42°02.8′ N, 070°38.6′ W.
| 42°02.7′ N, 070°39.0′ W.
9.7 Boston Harbor Sharkfest Swim | • Event Type: Swim. • Sponsor: Enviro-Sports Productions, Inc.
| • Date: A one-day event on a Saturday during the second or third weekend in September, as specified in the USCG District 1 Local Notice to Mariners.
| • Time: 10:00 am to 1:00 pm.
| • Location: All waters of Boston Inner Harbor, Piers Park East Boston to Fan Pier, South Boston, Ma within the following points (NAD 83):
| 42°21.7′ N, 071°02.1′ W.
| 42°21.8′ N, 071°02.4′ W.
| 42°21.3′ N, 071°02.9′ W.
| 42°21.3′ N, 071°02.3′ W.
10.0 | OCTOBER
10.1 Intercontinental Fireworks | • Event Type: Fireworks Display. • Sponsor: Intercontinental Hotel.
| • Date: A one-day event on Sunday during the last weekend of October, as specified in the USCG District 1 Local Notice to Mariners.
| • Time: 8:30 pm to 10:30 pm.
| • Location: All waters of Boston Inner Harbor within a 350-yard radius of the fireworks barge located at position 42°21.2′ N, 071°03′ W (NAD 83).
12.0 | DECEMBER
12.1 First Night Boston Fireworks | • Event Type: Fireworks Display. • Sponsor: First Night, Inc.
| • Date: A one-day event on New Year's Eve, as specified in the USCG District 1 Local Notice to Mariners.
| • Time: 11:30 pm to 12:30 am.
| • Location: All waters of Boston Inner Harbor within a 350-yard radius of the fireworks barge located at position 42°21.7′ N, 071°02.6′ W (NAD 83).

Dated: May 21, 2013.
J.C. O'Connor III,
Captain, U.S. Coast Guard, Captain of the Port Boston.

[FR Doc. 2013-14124 Filed 6-13-13; 8:45 am]

BILLING CODE 9110-04-P